DEPARTMENT OF THE INTERIOR

Salinas River National Wildlife Refuge

AGENCY: Fish and Wildlife Service.

ACTION: Notice of Intent to Prepare a Comprehensive Conservation Plan and Associated National Environmental Policy Act Document for Salinas River National Wildlife Refuge, Monterey County, California.

SUMMARY: The Fish and Wildlife Service (Service) is preparing a Comprehensive Conservation Plan (CCP) and National Environmental Policy Act (NEPA) document for Salinas River National Wildlife Refuge. This notice advises the public that the Service intends to gather information necessary to prepare a CCP and environmental documents pursuant to the National Wildlife Refuge System Administration Act of 1966, as amended, and NEPA. The public is invited to participate in the planning process. The Service is furnishing this notice in compliance with the Service CCP policy to advise other agencies and the public of our intentions, and obtain suggestions and information on the scope of issues to include in the environmental document.

DATES: To ensure that the Service has adequate time to evaluate and incorporate suggestions and other input into the planning process, comments should be received by June 22, 2000. A public meeting to solicit comments on the contents of the CCP and the vision of the refuge for the next 15 years will be held on June 1, 2000.

ADDRESSES: Send written comments or requests to be added to the mailing list to the following address: Christopher Barr, Refuge Manager—Salinas River NWR, San Francisco Bay National Wildlife Refuge Complex, P.O. Box 524, Newark, California 94560. The scoping meeting will be held at California State University-Monterey, 100 Campus Center, Building 29, Rooms 114-116, Seaside, California from 6 to 8 p.m.

FOR FURTHER INFORMATION CONTACT: Christopher Barr, Refuge Manager, (510) 792-4074 or 0222.

SUPPLEMENTARY INFORMATION: The National Wildlife Refuge System Administration Act of 1966, as amended in 1997, mandates that all lands within the National Wildlife Refuge System are to be managed in accordance with an approved CCP. The CCP will guide management decisions for the next 15 years and identify refuge goals, long-range objectives, and management strategies for achieving these objectives. The planning process will consider many elements, including habitat and wildlife management, habitat protection, recreational use, and environmental effects. Public input into this planning process is very important. The CCP will provide other agencies and the public with a clear understanding of the desired conditions for the refuges and how the Service will implement management strategies.

The Service is soliciting information from the public via written comments. The Service will send out planning updates to people who are interested in the CCP process. These mailings will provide information on how to participate in the CCP process. Comments received will be used to develop goals, key issues evaluated in the NEPA document, and habitat management strategies. Additional opportunities for public participation will occur throughout the process. The CCP is expected to be completed in December 2000.

Background

The refuge is located 11 miles northeast of the City of Monterey at the confluence of the Salinas River and Monterey Bay. The 366 acre refuge was established in 1973 because of its “particular value in carrying out the national migratory bird management program”. It was acquired by the Service through a transfer of surplus military land from the U.S. Army and the U.S. Coast Guard. From 1974 through 1991 the area was operated as a Wildlife Management Area under a cooperative agreement with the California Department of Fish and Game. By the mid-1980s, the growing importance of the refuge to sensitive species prompted the need for more active management and protection of its natural resources. In 1991, the Service began managing the area as a refuge under the National Wildlife Refuge System Administration Act and the Refuge Recreation Act of 1962. Management on the refuge emphasizes threatened and endangered species and sensitive migratory birds.

The primary purpose of the refuge is to provide habitat for endangered, threatened, and candidate species by providing secure habitat (e.g., nesting, feeding and roosting areas) for them. Endangered species on the refuge include Smith's blue butterfly (Euphilotes enoptes smithi), California brown pelican (Pelecanus occidentalis), and sand gilia (Gilia tenuiflora ssp. arenaria); threatened species include western snowy plover (Charadrius alexandrinus nivosus), and southern sea otter (Enhydra lutris nereis). The endangered Menzies wallflower (Erysimum menziesii) and threatened Monterey spineflower (Chorizanthe pungens var. pungens) may occur on the refuge.

It is expected that a draft CCP and NEPA document will be available for public review and comment in fall 2000.

Dated: May 17, 2000.
Wayne S. White,
California/Nevada Operations Manager, U.S. Fish and Wildlife Service, Sacramento, California.

[FR Doc. 00-13024 Filed 5-22-00; 8:45 am]

BILLING CODE 4310-55-U